DEPARTMENT OF COMMERCE

International Trade Administration

[A-580-903, A-201-852, A-523-813]

Notice of Extension of the Deadline for Determining the Adequacy of the Antidumping Duty Petitions: Polyethylene Terephthalate Sheet From the Republic of Korea, Mexico, and the Sultanate of Oman

AGENCY: Enforcement and Compliance, International Trade Administration, Department of Commerce.

DATES: Applicable July 29, 2019.

FOR FURTHER INFORMATION CONTACT: Susan Pulongbarit at (202) 482-4031 (Mexico and the Sultanate of Oman (Oman)); Charles Doss at (202) 482-4474 (the Republic of Korea (Korea)); AD/CVD Operations, Enforcement and Compliance, International Trade Administration, U.S. Department of Commerce, 1401 Constitution Avenue NW, Washington, DC 20230.

SUPPLEMENTARY INFORMATION:

Extension of Initiation of Investigations

The Petitions

On July 9, 2019, the Department of Commerce (Commerce) received antidumping duty petitions filed by Advanced Extrusion Inc.; Ex-Tech Plastics, Inc.; and Multi-Plastics Extrusions, Inc. (collectively, the petitioners) on behalf of the domestic industry producing polyethylene terephthalate sheet.¹

¹ See Petitioners' Letter, “Polyethylene Terephthalate Sheet from the Republic of Korea, Mexico, and the Sultanate of Oman—Petitions for the Imposition of Antidumping Duties,” dated July 9, 2019 (the Petitions).

Determination of Industry Support for the Petitions

Section 732(b)(1) of the Tariff Act of 1930, as amended (the Act), requires that a petition be filed by or on behalf of the domestic industry. To determine that the petition has been filed by or on behalf of the industry, section 732(c)(4)(A) of the Act requires that the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) if there is a large number of producers, determine industry support using a statistically valid sampling method to poll the industry.

Extension of Time

Section 732(c)(1)(A) of the Act provides that within 20 days of the filing of an antidumping duty petition, Commerce will determine, inter alia, whether the petition has been filed by or on behalf of the U.S. industry producing the domestic like product. Section 732(c)(1)(B) of the Act provides that the deadline for the initiation determination, in exceptional circumstances, may be extended by 20 days in any case in which Commerce must “poll or otherwise determine support for the petition by the industry.” Because it is not clear from the Petitions whether the industry support criteria have been met, Commerce has determined it should extend the time for initiating investigations in order to further examine the issue of industry support.

Commerce will need additional time to gather and analyze additional information regarding industry support. Therefore, it is necessary to extend the deadline for determining the adequacy of the Petitions for a period not to exceed 40 days from the filing of the Petitions. Because the extended initiation determination deadline of August 18, 2019, falls on a Sunday, a non-business day, Commerce's initiation determination will now be due no later than August 19, 2019, the next business day.²

² See Notice of Clarification: Application of “Next Business Day” Rule for Administrative Determination Deadlines Pursuant to the Tariff Act of 1930, As Amended, 70 FR 24533 (May 10, 2005).

International Trade Commission Notification

Commerce will contact the International Trade Commission (ITC) and will make this extension notice available to the ITC.

Dated: July 29, 2019.
James Maeder,
Deputy Assistant Secretary for Antidumping and Countervailing Duty Operations.

[FR Doc. 2019-17098 Filed 8-9-19; 8:45 am]

BILLING CODE 3510-DS-P